DEPARTMENT OF JUSTICE

Notice of Lodging of Proposed Consent Decree Under the Clean Air Act

On December 20, 2012, the Department of Justice lodged a proposed Consent Decree with the United States District Court for the District of Massachusetts in the lawsuit entitled, United States of America v. Solutia, Inc. and INEOS Melamines, LLC, Civil Action No. 3:12-cv-12377-KPN.

In its Complaint, the United States alleged that the Defendant's actions at their chemical manufacturing plant violated the Clean Air Act, and regulations promulgated pursuant to the Clean Air Act. The alleged violations occurred at the Defendants' Indian Orchard Plant in Springfield, Massachusetts. The United States alleges in its Complaint that Defendants violated: (A) Sections 112 and 502 of the Clean Air Act, 42 U.S.C. 7412 and 7661a, and implementing regulations; (B) the Final Reasonably Available Control Technology Compliance Plan Conditional Approval issued by the Massachusetts Department of Environmental Protection (“Massachusetts DEP”) on June 20, 1989 which contains requirements on the operation of the Plant; and (C) the Air Quality Operating Permit issued to Solutia Inc. on June 26, 2005 by the Massachusetts DEP pursuant to Title V of the Clean Air Act and 310 C.M.R. 7.00: Appendix C which also contains requirements on the operation of the Plant.

Upon entry of Consent Decree, the Defendants will pay a civil penalty in the amount of $970,000 to the United States. In addition, under the terms of the Consent Decree, the Defendants will implement an enhanced leak detection and repair system to control and manage the air pollutants emitted at the facility. As part of this leak detection and repair system, the Defendants will undertake efforts above and beyond what is currently required by the Clean Air Act and the regulations that the United States alleged were violated at the Plant. Pursuant to the proposed Consent Decree, the Defendants will conduct more frequent monitoring for possible equipment leaks, use lower thresholds for the repairs of leaks, replace leaking equipment more quickly with improved equipment, and conduct third-party audits of its leak detection and repair program.

The proposed Consent Decree resolves both Solutia Inc.'s liability, and INEOS Melamines, LLC's liability for all of the violations of the Clean Air Act that the United States alleges in its Complaint.

The publication of this notice initiates a 30-day period for public comment on the proposed Consent Decree. Comments should be addressed to the Assistant Attorney General, Environment and Natural Resources Division, and should refer to United States of America v. Solutia, Inc. and INEOS Melamines, LLC, D.J. Ref. No. 90-5-2-1-09980. All comments must be submitted no later than thirty (30) days after the publication date of this notice. Comments may be submitted either by email or by mail:

To submit comments: | Send them to:
By e-mail | pubcomment-ees.enrd@usdoj.gov.
By mail | Assistant Attorney General, U.S. DOJ-ENRD, P.O. Box 7611, Washington, DC 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ-ENRD, P.O. Box 7611, Washington, DC 20044-7611.

Please enclose a check or money order for $18.25 (25 cents per page reproduction cost) payable to the United States Treasury.

Ronald G. Gluck,
Assistant Section Chief, Environmental Enforcement Section, Environment and Natural Resources Division.

[FR Doc. 2013-00092 Filed 1-7-13; 8:45 am]

BILLING CODE 4410-15-P